DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2001, through April 30, 2002. The List of Restricted Joint Bidders published April 3, 2001,in the Federal Register at 66 FR 17731 covered the period May 1, 2001, through October 31, 2001.

Group I: Exxon Mobil Corporation, Mobil Oil Exploration and Producing Southeast Inc., Mobil Producing Texas and New Mexico, Mobil Oil Corporation, and Exxon Assets Holdings LLC

Group II: Shell Oil Company, Shell Offshore Inc., SWEPI LP, Shell Frontier Oil & Gas Inc., Shell Consolidated Energy Resources Inc., Shell Land & Energy Company Shell Onshore Ventures Inc., and Shell Offshore Properties and Capital II, Inc.

Group III: BP Exploration & Oil Inc., BP Exploration & Production Inc., BP Exploration (Alaska) Inc., Amoco Production Company, Vastar Offshore Inc., and Vastar Resources Inc.

Group IV: TotalFinaElf E&P USA Inc., Elf Aquitaine Oil Programs, Inc., TOTAL Exploration Production USA, Inc., and Fina E&P Inc.

Group V: Chevron Corporation and Chevron U.S.A. Inc.

Dated: October 9, 2001.
Thomas R. Kitsos,
Acting Director, Minerals Management Service.

[FR Doc. 01-25746 Filed 10-11-01; 8:45 am]

BILLING CODE 4910-MR-P